DEPARTMENT OF TRANSPORTATION

Federal Aviation Administration

14 CFR Part 39

[Docket No. FAA-2010-0829; Directorate Identifier 2010-NE-23-AD; Amendment 39-16524; AD 2010-24-05]

RIN 2120-AA64

Airworthiness Directives; Pratt & Whitney Canada Corp. (P&WC) PW305A and PW305B Turbofan Engines

AGENCY: Federal Aviation Administration (FAA), DOT.

ACTION: Final rule; correction.

SUMMARY: The FAA is correcting an airworthiness directive (AD) that published in the Federal Register. That AD applies to the products listed above. The agency docket No. and the engine type in the subject heading and paragraph (c) in the Summary section and the Regulatory text are incorrect. This document corrects that error. In all other respects, the original document remains the same.

DATES: This final rule is effective January 3, 2011.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: James Lawrence, Aerospace Engineer, Engine Certification Office, FAA, 12 New England Executive Park, Burlington, MA 01803; phone: (781) 238-7176; fax: (781) 238-7199; e-mail: james.lawrence@faa.gov.

SUPPLEMENTARY INFORMATION: Airworthiness Directive 2010-24-05, amendment 39-16524 (75 FR 72653, November 26, 2010), currently requires updating the airworthiness limitations section of the engine maintenance manuals for Pratt & Whitney Canada (P&WC) PW305A and PW305B turbofan engines.

As published, the agency docket No. in the Summary section and the engine type in the Summary section and in the Regulatory text are incorrect.

No other part of the preamble or regulatory information has been changed; therefore, only the changed portion of the final rule is being published in the Federal Register.

The effective date of this AD remains January 3, 2011.

Correction of Non-Regulatory Text

In the Federal Register of November 26, 2010, AD 2010-24-05; Amendment 39-16524 is corrected as follows:

On page 72653, in the third column, on line 19 under 14 CFR Part 39, change “Docket No. FAA-2010-0892” to “Docket No. FAA-2010-0829”.

On page 72653, in the third column, on line 25 under 14 CFR Part 39, change “PW305A and PW305B Turboprop” to “PW305A and PW305B Turbofan”.

Correction of Regulatory Text

§ 39.13 [Corrected]

In the Federal Register of November 26, 2010, on page 72655, in the first column, paragraph (c) of AD 2010-24-05 is corrected to read as follows:

* * * * *

(c) This AD applies to Pratt & Whitney Canada Corp. (P&WC) PW305A and PW305B turbofan engines with certain impellers, part numbers (P/Ns) 30B2185, 30B2486, 30B2858-01, or 30B4565-01 installed. These engines are installed on, but not limited to, Hawker-Beech Corporation BAe.125 series 1000A, 1000B, and Hawker 1000 airplanes and Learjet Inc. Learjet 60 airplanes.

* * * * *

Issued in Burlington, Massachusetts, on December 22, 2010.
Peter A. White,
Assistant Manager, Engine & Propeller Directorate, Aircraft Certification Service.

[FR Doc. 2010-33171 Filed 1-3-11; 8:45 am]

BILLING CODE 4910-13-P